DEPARTMENT OF THE INTERIOR

National Park Service

[NPS-AKR-CAKR-KOVA-WRST-17030; PPAKAKROR4; PPMPRLE1Y.LS0000]

Cape Krusenstern National Monument Subsistence Resource Commission (SRC), Kobuk Valley National Park SRC, and Wrangell-St. Elias National Park SRC; Meeting

AGENCY: National Park Service, Interior.

ACTION: Meeting Notice.

SUMMARY: As required by the Federal Advisory Committee Act (5 U.S.C. Appendix 1-16), the National Park Service (NPS) is hereby giving notice that the Cape Krusenstern National Monument Subsistence Resource Commission (SRC), Kobuk Valley National Park SRC, and Wrangell-St. Elias National Park SRC will hold meetings to develop and continue work on NPS subsistence program recommendations, and other related regulatory proposals and resource management issues. The NPS SRC program is authorized under Section 808 of the Alaska National Interest Lands Conservation Act (16 U.S.C. 3118), Title VIII.

Cape Krusenstern National Monument SRC

Meeting/Teleconference Dates and Location: The Cape Krusenstern National Monument SRC will meet/teleconference from 9:00 a.m. to 5:00 p.m. or until business is completed on Tuesday, December 2, 2014, and Wednesday, December 3, 2014, at the Northwest Arctic Heritage Center in Kotzebue, AK.

Teleconference participants must call the Cape Krusenstern National Monument office at (907) 442-3890 by December 1, 2014, prior to the meeting to receive teleconference passcode information.

Kobuk Valley National Park SRC Meeting/Teleconference

Dates and Location: The Kobuk Valley National Park SRC will meet/teleconference from 9:00 a.m. to 5:00 p.m. or until business is completed on Thursday, December 4, 2014, and Friday, December 5, 2014, at the Northwest Arctic Heritage Center in Kotzebue, AK. The teleconference will be open to the public. Teleconference participants must call Kobuk Valley National Park office at (907) 442-3890 by December 2, 2014, prior to the meeting to receive teleconference passcode information.

For more detailed information regarding the Cape Krusenstern National Monument SRC or Kobuk Valley National Park SRC meetings, or if you are interested in applying for SRC membership, contact Frank Hays, Designated Federal Official and Superintendent, at (907) 442-3890, email frank_hays@nps.gov, or Ken Adkisson, Subsistence Manager, at (907) 443-2522, email ken_adkisson@nps.gov, or Clarence Summers, Subsistence Manager, at (907) 644-3603, email clarence_summers@nps.gov.

Wrangell-St. Elias National Park SRC

Meeting/Teleconference Date and Location: The Wrangell-St. Elias National Park SRC will meet/teleconference from 9:00 a.m. to 12:00 p.m. or until business is completed on Monday, December 1, 2014, at the Wrangell-St. Elias National Park and Preserve office in Copper Center, AK. Teleconference participants must call Wrangell-St. Elias National Park office at (907) 822-7236 or (907) 822-5234 by November 25, 2014, prior to the meeting to receive teleconference passcode information.

For more detailed information regarding the Wrangell-St. Elias National Park SRC meeting/teleconference, or if you are interested in applying for SRC membership, contact Rick Obernesser, Designated Federal Official and Superintendent, at (907) 822-3182, email rick_obernesser@nps.gov, or Barbara Cellarius, Subsistence Manager, at (907) 822-7236, email barbara_cellarius@nps.gov, or Clarence Summers, Subsistence Manager, at (907) 644-3603, email clarence_summers@nps.gov.

Proposed Meeting Agenda

The agenda may change to accommodate SRC business. The proposed meeting agenda for each meeting includes the following:

1. Call to Order—Confirm Quorum

2. Welcome and Introduction

3. Review and Adoption of Agenda

4. Approval of Minutes

5. Superintendent's Welcome and Review of the Commission Purpose

6. Commission Membership Status

7. SRC Chair and Members' Reports

8. Superintendent's Report—NPS

9. Old Business

10. New Business

11. Federal Subsistence Board Update

12. Alaska Boards of Fish and Game Update

13. National Park Service Reports

a. Ranger Update

b. Resource Management Update

c. Subsistence Manager's Report

14. Public and Other Agency Comments

15. Work Session

16. Set Tentative Date and Location for Next SRC Meeting

17. Adjourn Meeting

SRC meeting locations and dates may change based on inclement weather or exceptional circumstances. If the meeting date and location are changed, the Superintendent will issue a press release and use local newspapers and radio stations to announce the rescheduled meeting.

SUPPLEMENTARY INFORMATION: These meetings are open to the public and will have time allocated for public testimony. The public is welcome to present written or oral comments to the SRC. The meetings will be recorded and meeting minutes will be available upon request from the Superintendent for public inspection approximately six weeks after the meeting. Before including your address, telephone number, email address, or other personal identifying information in your comment, you should be aware that your entire comment—including your personal identifying information—may be made publicly available at any time. While you may ask us in your comment to withhold your personal identifying information from public review, we cannot guarantee that we will be able to do so.

Dated: November 13, 2014.
Alma Ripps,
Chief, Office of Policy.

[FR Doc. 2014-27334 Filed 11-18-14; 8:45 am]

BILLING CODE 4310-EE-P